DEPARTMENT OF DEFENSE

Department of the Army; Corps of Engineers

Intent To Prepare an Environmental Impact Statement for Arctic Deep Draft Ports Navigation Improvements Feasibility Study

AGENCY: Department of the Army, U.S. Army Corps of Engineers, DoD.

ACTION: Notice of intent.

SUMMARY: The U.S. Army Corps of Engineers (USACE) announces its intention to prepare an Environmental Impact Statement (EIS) to study the feasibility of improving the navigation infrastructure in the vicinity of Norton Sound and the Bering Strait with a focus on existing infrastructure at Nome, possible infrastructure at Cape Riley near Teller, and improved infrastructure at Point Spencer at Port Clarence, Alaska. This study will be performed through a partnership between USACE and the State of Alaska, Department of Transportation. The existing infrastructure in this region of Alaska is presently not capable of meeting existing or anticipated navigation demands for multinational, Federal, state, and local interests. Of particular concern in this region is the ability to provide a systematic approach to meeting navigation requirements in this region in response to a changing climate and thus an increasing need for environmentally and responsibly planned infrastructure. The EIS will address the potential for positive and negative environmental impacts of construction, operation, and maintenance of marine infrastructure serving the Norton Sound and Bering Strait region. USACE will hold scoping meetings in Nome and Teller, Alaska, in an effort to better define the issues associated with navigation in this region of Alaska. Teleconferencing or VTC will be set up as available to accommodate stakeholders unable to be present at the scoping meetings. Scoping will be ongoing throughout the feasibility study process.

DATES: A scoping meeting will be held in Nome and Teller, Alaska the second week in June. A summary of comments received as a result of scoping meetings held in June will be forwarded to participants as requested. Scoping meetings will be advertised in local newspapers as necessary.

ADDRESSES: Please direct comments or suggestions on the scope of the EIS to: Mr. Michael Salyer, NEPA Coordinator, U.S. Army Corps of Engineers, Alaska District, EN-G-ER, P.O. Box 6898, Joint Base Elmendorf-Richardson, AK 99506-0898; Phone: 907-753-2690; Fax: (907) 753-2625, email michael.9.salyer@usace.army.mil (please use “NOI Comments; Environmental Impact Statement for Arctic Deep Draft Ports Navigation Improvements Feasibility Study).

FOR FURTHER INFORMATION CONTACT: For information or questions concerning the proposed project, contact: Ms. Lorraine Cordova, Plan Formulator, U.S. Army Corps of Engineers, Alaska District, PM-C-PL, P.O. Box 6898, Joint Base Elmendorf-Richardson, AK 99506-0898; Phone: 907-753-5619; Fax: (907) 753-2625; email: Lorraine.A.Cordova@usace.army.mil.

SUPPLEMENTARY INFORMATION:

Background

The study area is part of the Seward Peninsula on the western coast of Alaska and includes the general area of Nome/Port Clarence and Teller. Currently, Nome serves as the supply, service, and transportation center for the Bering Strait region. Nome cannot meet the existing demand for maritime infrastructure, while demand on that infrastructure continues to increase. Commerce, safety, national security and oil spill response capability have already been identified as issues needing to be addressed in the United States as an Arctic nation.

Purpose and Need for Agency Action

The purpose of this study is to identify a practicable and environmentally responsible solution to meeting the existing and future maritime infrastructure needs in the Bering Sea Region and possibly the United States Arctic. The existing maritime infrastructure in the vicinity of Nome is not adequate to accommodate the need for an efficient and safe harbor appropriate to current vessel traffic in the Arctic Region of the United States. The State of Alaska, Department of Transportation is working with the U. S. Army Corps of Engineers in investigating the need for expanding the existing maritime infrastructure within the Bering Sea Region. This region of Alaska has been identified as having the potential for improving the northern-most, naturally occurring deep water port. At present, the region does not appropriately and safely accommodate the needs of maritime users already located at or transiting the area.

This project was authorized by general language in Section 5007 of Public Law 119-114, the Water Resources Development Act of 2007.

The Study Authority is the House Public Works Committee Resolution for Rivers and Harbors in Alaska, adopted December 2, 1970. The resolution states:

“Resolved by the Committee on Public Works of the House of Representatives, United States, that the Board of Engineers for Rivers and Harbors is hereby requested to review the reports of the Chief of Engineers on Rivers and Harbors in Alaska, published as House Document Numbered 414, 83rd Congress, 2nd Session; and other pertinent reports, with a view to determining whether any modifications of the recommendations contained herein are advisable at the present time.”

This EIS will assess the potential environmental impacts of constructing, operating, and maintaining existing and possibly new navigation infrastructure in the Norton Sound and Bering Strait Region. The EIS will aid decision making on the Arctic Deep Draft Ports study by evaluating the environmental impacts of the range of reasonable alternatives, as well as providing a means for public input into the decision making process. USACE is committed to ensuring that the public has ample opportunity to participate in this review.

Preliminary Alternatives

Consistent with NEPA implementation requirements, this EIS will assess the range of reasonable alternatives regarding constructing, operating, maintaining, and funding a proposed project that results from the study. The following types of alternatives have been identified for the region and are subject to modification in response to comments received during the public scoping process.

Structural Alternatives: This set of alternatives will investigate and describe possible harbor construction or improvement alternatives. Types of structural solutions could include, but are not limited to, rubble mound breakwaters, dredging, Search and Rescue infrastructure, disaster response infrastructure, mooring basins, modified entrance channels, navigation aids, etc.

Nonstructural Alternatives: Nonstructural alternatives could include, but are not limited to, solutions like traffic management and Port Authority establishment.

No Action Alternative: Under the “no action” alternative, the Norton Sound Region would continue to encounter the haphazard navigation scenario that presently exists in a challenging maritime environment associated with the Bering Sea and other Arctic waters.

USACE would appreciate comments regarding whether there are additional alternatives for the Environmental Impact Statement for Arctic Deep Draft Ports Navigation Improvements Feasibility Study that should be considered.

Identification of Environmental and Other Issues

USACE intends to address the following environmental issues when assessing the potential environmental impacts of the alternatives in this EIS. Additional issues may be identified as a result of the scoping process. USACE invites comment from Federal agencies; state, local, and tribal governments; and the general public on these and any other issues that should be considered in the EIS:

• Potential impacts on health from the existing usage of the area by transiting and local vessels.

• Potential impacts on health, both positive and negative, as a result of project implementation.

• Potential impacts to workers during the construction of the facilities.

• Potential impacts to surface water, tidelands and fauna including turbidity from construction activities.

• Potential impacts on air quality from emissions and from noise during construction and operations.

• Potential cumulative impacts of the past, present, and reasonably foreseeable future actions including impacts resulting from activities foreign and domestic, multinational, Federal, state, and local.

• Potential impacts to historically significant properties, if present, and on access to traditional use areas.

• Potential impacts on local, regional, or national resources from materials and utilities required for construction and operation.

• Potential impacts on ecological resources, including threatened and endangered species and water quality.

• Potential impacts on local employment, income, population, housing, and public services from harbor construction and operations.

NEPA Process

The EIS for the proposed project will be prepared pursuant to the NEPA of 1969 (42 U.S.C. 4321 et seq.), Council on Environmental Quality NEPA Regulations (40 CFR parts 1500-1508), and USACE's NEPA Implementing Procedures (33 CFR parts 230 and 325). Following the publication of this Notice of Intent, USACE will continue the scoping process, prepare and distribute the draft EIS for public review, hold public meetings to solicit public comment on the draft EIS, and publish a final EIS. Not less than 30 days after the publication of the U.S. Environmental Protection Agency's Notice of Availability of the final EIS, USACE may issue a Record of Decision (ROD) documenting its decision concerning the proposed action.

EIS Schedule

The draft EIS is scheduled to be published no sooner than December 2013. A 45-day comment period on the draft EIS is planned, which will include public meetings to receive comments. Availability of the draft EIS, the dates of the public comment period, and information about public meetings will be announced in the Federal Register and in the local news media.

The final EIS for the Environmental Impact Statement for Arctic Deep Draft Ports Navigation Improvements Feasibility Study is scheduled for no sooner than November 2014. A ROD would be issued no sooner than 30 days after the U. S. Environmental Protection Agency's notice of availability of the final EIS is published in the Federal Register.

Gregory Schmidt,
Deputy Chief, Engineering Division.

[FR Doc. 2013-11850 Filed 5-17-13; 8:45 am]

BILLING CODE 3720-58-P